DEPARTMENT OF ENERGY

Federal Energy Regulatory Commission

Combined Notice of Filings # 1

August 4, 2009.

Take notice that the Commission received the following electric rate filings:

Docket Numbers: ER98-511-013; ER97-4345-025.

Applicants: Oklahoma Gas and Electric Company, OGE Energy Resources, Inc.

Description: Oklahoma Gas and Electric company et al submit an updated market power analysis.

Filed Date: 07/31/2009.

Accession Number: 20090803-0063.

Comment Date: 5 p.m. Eastern Time on Tuesday, September 29, 2009.

Docket Numbers: ER99-1757-016.

Applicants: Empire District Electric Company.

Description: The Empire District Electric Company submits updated market power analysis and Order No 697 compliance filing.

Filed Date: 07/30/2009.

Accession Number: 20090803-0066.

Comment Date: 5 p.m. Eastern Time on Monday, September 28, 2009.

Docket Numbers: ER09-1505-000.

Applicants: Stony Creek Wind Farm, LLC.

Description: Application of Stony Creek Wind Farm, LLC for order accepting initial market-based rate tariffs (FERC Electric Tariff, Original Volume 1) and granting certain waivers and blanket approvals.

Filed Date: 07/31/2009.

Accession Number: 20090803-0050.

Comment Date: 5 p.m. Eastern Time on Friday, August 21, 2009.

Docket Numbers: ER09-1534-000.

Applicants: Southern California Edison Company.

Description: Southern California Edison Company submits revision to its Transmission Owner Tariff FERC Electric Tariff, Second Revised Volume No 6.

Filed Date: 07/31/2009.

Accession Number: 20090803-0072.

Comment Date: 5 p.m. Eastern Time on Friday, August 21, 2009.

Docket Numbers: ER09-1535-000.

Applicants: Berkshire Power Company, LLC.

Description: Berkshire Power Company, LLC submits Reliability Must-Run Agreement with ISO New England, Inc.

Filed Date: 07/31/2009.

Accession Number: 20090803-0084.

Comment Date: 5 p.m. Eastern Time on Friday, August 21, 2009.

Docket Numbers: ER09-1536-000.

Applicants: Midwest Independent Transmission System Operator, Inc.

Description: Midwest ISO submits Notice of Cancellation of the 2008 Adjacent Balancing Authority Coordination Agreement.

Filed Date: 07/31/2009.

Accession Number: 20090803-0083.

Comment Date: 5 p.m. Eastern Time on Friday, August 21, 2009.

Docket Numbers: ER09-1537-000.

Applicants: Midwest Independent Transmission System Operator, Inc.

Description: Midwest ISO submits Notice of Cancellation of the 2008 Adjacent Balancing Authority Coordination Agreement.

Filed Date: 07/31/2009.

Accession Number: 20090803-0082.

Comment Date: 5 p.m. Eastern Time on Friday, August 21, 2009.

Docket Numbers: ER09-1540-000.

Applicants: Pacific Gas and Electric Company.

Description: Pacific Gas and Electric Company submit agreements for load interconnection facilities etc.

Filed Date: 07/31/2009.

Accession Number: 20090803-0085.

Comment Date: 5 p.m. Eastern Time on Friday, August 21, 2009.

Take notice that the Commission received the following open access transmission tariff filings:

Docket Numbers: OA08-35-005.

Applicants: Xcel Energy Services, Inc.

Description: Compliance Filing of Xcel Energy Services, Inc.

Filed Date: 07/29/2009.

Accession Number: 20090729-5115.

Comment Date: 5 p.m. Eastern Time on Wednesday, August 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-19126 Filed 8-10-09; 8:45 am]

BILLING CODE 6717-01-P